FEDERAL EMERGENCY MANAGEMENT AGENCY

Notice of Field Test of the State Management of the Public Assistance Operations in Small Disasters

AGENCY: Federal Emergency Management Agency (FEMA).

ACTION: Notice.

SUMMARY: We (FEMA) give notice that we will field test the devolution of major management responsibility of the Public Assistance Program to interested States in small disasters beginning on or after July 1, 2000. We award Public Assistance grants, which supplement community assets in the recovery of State, local and eligible private non-profit infrastructure when the President declares an emergency or major disaster. The proposed change in the program management does not constitute changes to the process by which assistance is provided nor does it constitute a change in benefits under the law or regulation.

FOR FURTHER INFORMATION CONTACT: James A. Walke, Engineering Branch Chief, Federal Emergency Management Agency, Washington D.C. 20472, 202-646-2751 (phone), 202-646-3304 (fax), or James.Walke@fema.gov (e-mail).

EFFECTIVE DATE: July 1, 2000.

SUPPLEMENTARY INFORMATION: The Robert T. Stafford Disaster Relief and Emergency Assistance Act provides for the award of grants to assist in the repair and reconstruction of community infrastructure. With the help of State officials, we have explored the option of having capable States manage the Public Assistance Program in small disasters. However, before formally instituting the option of devolving this responsibility, we will field test the concept in selected disasters occurring on or after July 1, 2000, to validate the concept and to determine whether additional refinements are necessary. State participation in the field test(s) will be voluntary. FEMA and an affected State will enter into an operational agreement for the field test after the State elects to manage the disaster and FEMA determines that the State is capable. The operational agreement will define the roles and responsibilities of both the State and FEMA as well as the processes and procedures in effect under the agreement.

Under this initiative, a capable State will manage the Public Assistance Program operation, including project eligibility reviews, process control, and resource allocation on small disasters. We will retain obligation authority, final approval of environmental and historic preservation reviews, and we will help the State to the extent that the State requests such assistance. We and the State will conduct on-going quality control checks of a sample of Project Worksheets to ensure accurate eligibility decisions, scopes of work, and cost estimates. A Quality Assurance Team consisting of our and State staff will evaluate the Public Assistance recovery operation and determine the level of success of the pilot program. We will develop evaluation criteria before the pilot program and will include the criteria in the operational agreement.

Dated: June 20, 2000.
Lacy E. Suiter,
Executive Associate Director, Response and Recovery Directorate.

[FR Doc. 00-16911 Filed 7-3-00; 8:45 am]

BILLING CODE 6718-02-P